PEACE CORPS

Information Collection Request; Submission for OMB Review

AGENCY: Peace Corps.

ACTION: 60-Day Notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 U.S.C. Chapter 35).

DATES: Submit comments on or before November 9, 2015.

ADDRESSES: Comments should be addressed to Denora Miller, FOIA/Privacy Act Officer. Denora Miller can be contacted by telephone at 202-692-1236 or email at pcfr@peacecorps.gov. Email comments must be made in text and not in attachments.

FOR FURTHER INFORMATION CONTACT: Denora Miller at Peace Corps address above.

SUPPLEMENTARY INFORMATION:

Title: Post Service Survey.

OMB Control Number: 0420-XXXX.

Type of Request: New.

Affected Public: Individuals.

Respondents Obligation to Reply: Voluntary.

Respondents: Returned Peace Corps Volunteers.

Burden to the Public

a. Estimated number of respondents: 12,000.

b. Estimated average burden per response: 5 minutes.

c. Frequency of response: One time.

d. Annual reporting burden: 1,000 hours.

e. Estimated annual cost to respondents: $0.00.

General description of collection: The Peace Corps Office Health Service (OHS) is interested in the satisfaction levels of Returned Peace Corps Volunteers (RPCVs) with the services received through the Post-Service Unit. In addition, OHS is interested in the various experiences that RPCVs have with the Federal Employees' Compensation Act (FECA) program so that OHS can better explain and assist RPCVs through the FECA application process. The information will be used by OHS to improve both our customer service as well as improve our ability to provide RPCVs with information related to the FECA system and the process by which RPCVs can apply and obtain benefits.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on September 4, 2015.
Denora Miller,
FOIA/Privacy Act Officer, Management.

[FR Doc. 2015-22804 Filed 9-9-15; 8:45 am]

BILLING CODE P